DEPARTMENT OF ENERGY

Federal Energy Regulatory Commission

[Docket No. RP00-310-000]

Discovery Gas Transmission LLC; Notice of Lost and Unaccounted for Gas Filing

June 5, 2000.

Take notice that on May 31, 2000, Discovery Gas Transmission LLC (Discovery) filed to comply with the terms of its FERC Gas Tariff, First Revised Sheet Nos. 34, 44, and 53 relating to lost and unaccounted for gas for the calendar year 1999.

Discovery states that it has reviewed the amount of lost and unaccounted for gas experienced by the Discovery system during the 1999 calendar year, and based on that review it proposes to retain the current retention rate of 0.5 percent for the period commencing July 1, 2000.

Discovery states that copies of this filing are being mailed to its customers, state commissions and other interested parties.

Any person desiring to protest said filing should file a protest with the Federal Energy Regulatory Commission, 888 First Street, NE., Washington, DC 20426, in accordance with section 385.211 of the Commission's Rules and Regulations. All such protests must be filed on or before June 12, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14570 Filed 6-8-00; 8:45 am]

BILLING CODE 6717-01-M